DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southwest Region Vessel Monitoring System and Pre-Trip Reporting Requirements.

OMB Control Number: 0648-0498.

Form Number(s): NA.

Type of Request: Regular submission (renewal of an existing information collection).

Number of Respondents: 5.

Average Hours per Response: Vessel monitoring system (VMS) installation, 4 hours; VMS annual maintenance, 2 hours; pre-trip notification, 5 minutes.

Burden Hours: 17.

Needs and Uses: This submission is for renewal of an existing information collection. Owners of vessels that fish out of West Coast ports for highly migratory species (HMS) such as tuna, billfish, and sharks are required to submit information in regards to their planned fishing activities. The information will enable the various local, national, and regional entities to effectively manage and enforce fisheries targeting transboundary HMS stocks as part of the Fishery Management Plan (FMP) for U.S. West Coast Fisheries for HMS (developed under the authority of the Magnuson-Stevens Fishery Conservation and Management Act). This information collection addresses vessel monitoring systems (VMS) requirements and observer pre-trip notifications. The information is pertinent for the basic monitoring of the fishery and to obtain information needed by, among other agencies, National Marine Fisheries Service (NMFS), the United States (U.S.) Coast Guard, the Pacific Fishery Management Council, and the Interamerican Tropical Tuna Commission to monitor the activities of the participating vessels and the performance of the fisheries. Knowing near real-time VMS position information for U.S. West Coast-based HMS fishing vessels enables effective monitoring of vessel activity for enforcement and assessment purposes. VMS units also provide confirmation of reported vessel fishing activity locations and can help in validation of logbook records accuracy. The requirements also generate information for evaluating the magnitude and distribution of impacts from any changes in regulations that might occur in the future. Observer pre-trip notifications allow for the timely placement of at-sea observers onboard vessels at the discretion of the NMFS to collect information on, among other things, bycatch and protected species interactions.

Affected Public: Business or other for-profit organizations.

Frequency: Annually and on occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: November 15, 2010.
Gwellnar Banks,
Management Analyst, Office of the Chief Information Officer.

[FR Doc. 2010-29184 Filed 11-18-10; 8:45 am]

BILLING CODE 3510-22-P